DEPARTMENT OF TRANSPORTATION

Maritime Administration

[Docket No. MARAD-2020-0055]

Request for Comments on the Approval of a Previously Approved Information Collection: America's Marine Highway Program

AGENCY: Maritime Administration, DOT

ACTION: Notice and request for comments.

SUMMARY: The Maritime Administration (MARAD) invites public comments on our intention to request the Office of Management and Budget (OMB) approval to renew an information collection. The information to be collected will be used by the Maritime Administration to evaluate and review applications being submitted for project designation. The review will assess factors such as project scope, impact, public benefit, environmental effect, offsetting costs, cost to the government (if any), the likelihood of long-term self-supporting operations, and its relationship with Marine Highway Routes once designated. We are required to publish this notice in the Federal Register by the Paperwork Reduction Act of 1995.

DATES: Comments must be submitted on or before May 26, 2020.

ADDRESSES: You may submit comments [identified by Docket No. MARAD-2020-0055] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Timothy Pickering, 202-366-0704, Acting Director, Office of Ports & Waterways Planning, U.S. Department of Transportation, 1200 New Jersey Ave., Washington, DC 20590.

SUPPLEMENTARY INFORMATION:

Title: America's Marine Highway Program.

OMB Control Number: 2133-0541.

Type of Request: Renewal of a previously approved collection.

Abstract: The Department of Transportation will solicit applications for Marine Highway Projects as specified in the America's Marine Highway Program Final Rule, MARAD-2010-0035, published in the Federal Register on April 9, 2010. These applications must comply with the requirements of the referenced America's Marine Highway Program Final Rule, and be submitted in accordance with the instructions contained in that Final Rule. Open season for Marine Highway Project applications is open through January 31, 2022.

Respondents: State, Local, or Tribal Government and Business or other for profit.

Affected Public: Vessel Operators.

Estimated Number of Respondents: 35.

Estimated Number of Responses: 35.

Estimated Hours per Response: 10.

Annual Estimated Total Annual Burden Hours: 350.

Frequency of Response: Annually.

(Authority: The Paperwork Reduction Act of 1995; 44 U.S.C. Chapter 35, as amended; and 49 CFR 1.93.)

* * * * *

Dated: March 18, 2020.
By Order of the Maritime Administrator.
T. Mitchell Hudson, Jr.,
Secretary, Maritime Administration.

[FR Doc. 2020-06107 Filed 3-23-20; 8:45 am]

BILLING CODE 4910-81-P